DEPARTMENT OF ENERGY

Federal Energy Regulatory Commission

Combined Notice of Filings

Take notice that the Commission has received the following Natural Gas Pipeline Rate and Refund Report filings:

Filings Instituting Proceedings

Docket Numbers: CP19-194-000.

Applicants: Midcontinent Express Pipeline LLC.

Description: Joint Abbreviated Application for Partial Lease Capacity Abandonment Authorization of Midcontinent Express Pipeline LLC, et al.

Filed Date: 4/18/19.

Accession Number: 20190418-5221.

Comments Due: 5 p.m. ET 5/9/19.

Docket Numbers: RP18-1167-002.

Applicants: Equitrans, L.P.

Description: Compliance filing Pre/Arranged/Pre-Agreed (2019 Settlement) to be effective 6/1/2019.

Filed Date: 4/18/19.

Accession Number: 20190418-5172.

Comments Due: 5 p.m. ET 4/26/19.

Docket Numbers: RP19-1137-000.

Applicants: Maritimes & Northeast Pipeline, L.L.C.

Description: § 4(d) Rate Filing: MNUS Apr2019 NRA and NCF Cleanup Filing to be effective 5/18/2019.

Filed Date: 4/18/19.

Accession Number: 20190418-5003.

Comments Due: 5 p.m. ET 4/30/19.

Docket Numbers: RP19-1138-000.

Applicants: Centra Pipelines Minnesota Inc.

Description: § 4(d) Rate Filing: Updated Shipper Index June 2019 to be effective 6/1/2019.

Filed Date: 4/18/19.

Accession Number: 20190418-5016.

Comments Due: 5 p.m. ET 4/30/19.

Docket Numbers: RP19-1139-000.

Applicants: Transcontinental Gas Pipe Line Company, LLC.

Description: § 4(d) Rate Filing: SS-2 Inventory Adjustment (2019) to be effective 5/1/2019.

Filed Date: 4/18/19.

Accession Number: 20190418-5085.

Comments Due: 5 p.m. ET 4/30/19.

Docket Numbers: RP19-1140-000.

Applicants: Maritimes & Northeast Pipeline, L.L.C.

Description: § 4(d) Rate Filing: MNUS Apr2019 NRA Cleanup Filing to be effective 5/18/2019.

Filed Date: 4/18/19.

Accession Number: 20190418-5117.

Comments Due: 5 p.m. ET 4/30/19.

Docket Numbers: RP19-1141-000.

Applicants: Spire Storage West LLC.

Description: § 4(d) Rate Filing: Spire Storage West LLC—Filing of Tariff Changes to be effective 5/20/2019.

Filed Date: 4/19/19.

Accession Number: 20190419-5120.

Comments Due: 5 p.m. ET 5/1/19.

Docket Numbers: RP19-1142-000.

Applicants: Calpine Energy Services, L.P., Garrison Energy Center LLC, Cobalt Power, L.L.C.

Description: Joint Petition for Limited Waivers of Capacity Release Regulations and Tariff Provisions of Calpine Energy Services, L.P., et al. under RP19-1142.

Filed Date: 4/19/19.

Accession Number: 20190419-5126.

Comments Due: 5 p.m. ET 5/1/19.

Docket Numbers: RP19-1143-000.

Applicants: Rockies Express Pipeline LLC.

Description: § 4(d) Rate Filing: Neg Rate 2019-04-19 Triad Hunter (2) to be effective 4/19/2019.

Filed Date: 4/19/19.

Accession Number: 20190419-5129.

Comments Due: 5 p.m. ET 5/1/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 22, 2019.
Nathaniel J. Davis, Sr.,
Deputy Secretary.

[FR Doc. 2019-08423 Filed 4-25-19; 8:45 am]

BILLING CODE 6717-01-P